DEPARTMENT OF COMMERCE

International Trade Administration

[A-201-805]

Circular Welder Non-Alloy Steel Pipe From Mexico: Rescission of Antidumping Duty Administrative Review

AGENCY: Import Administration, International Trade Administration, Department of Commerce.

ACTION: Notice of rescission of antidumping duty administrative review.

SUMMARY: In January 31, 2001, the Department of Commerce (“the Department”) published in the Federal Register (66 FR 8378) a notice announcing the initiation of an administrative review of the antidumping duty order on circular welded non-alloy steel pipe from Mexico. This administrative review covered two Mexican manufacturers of circular welded non-alloy steel pipe, Tuberia Nacional S.A. de C.V. (“TUNA”) and Tuberias Procarsa, S.A. de C.V. (“Procarsa”), for the period of November 1, 1999 through October 31, 2000. The Department has now rescinded this review as a result of requests by both parties to withdraw from the review.

EFFECTIVE DATE: May 16, 2001.

FOR FURTHER INFORMATION CONTACT: John Drury or Steve Bezirganian, Enforcement Group III, Office 8, Import Administration, International Trade Administration, U.S. Department of Commerce, 14th Street and Constitution Avenue, NW., Room 7866, Washington, DC 20230; telephone (202) 482-0195 or (202) 482-1131, respectively.

The Applicable Statute

Unless otherwise indicated, all citations to the Tariff Act of 1930, as amended (the Act) are references to the provisions effective January 1, 1995, the effective date of the amendments made to the Act by the Uruguay Round Agreements Act (URAA). In addition, unless otherwise indicated, all citations to the Department's regulations are references to the provisions codified at 19 CFR part 351 (2000).

Scope of the Review

The products covered by these orders are circular welded non-alloy steel pipes and tubes, of circular cross-section, not more than 406.4 millimeters (16 inches) in outside diameter, regardless of wall thickness, surface finish (black, galvanized, or painted), or end finish (plain end, beveled end, threaded, or threaded and coupled). These pipes and tubes are generally known as standard pipes and tubes and are intended for the low pressure conveyance of water, steam, natural gas, and other liquids and gases in plumbing and heating systems, air conditioning units, automatic sprinkler systems, and other related uses, and generally meet ASTM A-53 specifications. Standard pipe may also be used for light load-bearing applications, such as for fence tubing, and as structural pipe tubing used for framing and support members for reconstruction or load-bearing purposes in the construction, shipbuilding, trucking, farm equipment, and related industries. Unfinished conduit pipe is also included in these orders.

All carbon steel pipes and tubes within the physical description outlined above are included within the scope of these orders, except line pipe, oil country tubular goods, boiler tubing, mechanical tubing, pipe and tube hollows for redraws, finished scaffolding, and finished conduit. Standard pipe that is dual or triple certified/stenciled that enters the United States as line pipe of a kind used for oil or gas pipelines is also not included in these orders.

Imports of the products covered by these orders are currently classifiable under the following Harmonized Tariff Schedule (HTS) subheadings: 7306.30.10.00, 7306.30.50.25, 7306.30.50.32, 7306.30.50.40, 7306.30.50.55, 7306.30.50.85, and 7306.30.50.90.

Although the HTS subheadings are provided for convenience and customs purposes, our written description of the scope of these proceedings is dispositive.

Background

The Department published an antidumping duty order on circular welded non-alloy steel pipe and tube from Mexico on November 2, 1992 (57 FR 49453). The Department published a notice of “Opportunity to Request an Administrative Review” of the antidumping duty order for the 1999/2000 review period on November 8, 2000 (65 FR 66965). Respondents TUNA, Procarsa, and Hylsa S.A. de C.V. (“Hylsa”) requested that the Department conduct an administrative review of the antidumping duty order on circular welded non-alloy steel pipe and tube from Mexico. Hylsa withdrew its request for administrative review on December 19, 2000. We initiated this review for respondents TUNA and Procarsa on January 31, 2001. See 66 FR 8378.

The Department received timely requests for withdrawal from the administrative review from TUNA on February 23, 2001, and from Procarsa on March 9, 2001. The applicable regulation, 19 CFR 351.213(d)(1), states that the Secretary will rescind an administrative review under this section, in whole or in part, if a party that requested a review withdraws the request within 90 days of the date of publication of notice of initiation of the requested review. In light of the fact that all of the parties who initially requested an administrative review have withdrawn their requests in a timely manner, we are rescinding this review.

This notice is published in accordance with 19 CFR 351.213(d)(4).

Dated: April 26, 2001.
Richard O. Weible,
Acting Deputy Assistant Secretary, AD/CVD Enforcement Group III.

[FR Doc. 01-12380 Filed 5-15-01; 8:45 am]

BILLING CODE 3510-DS-P